DEPARTMENT OF TRANSPORTATION

Federal Railroad Administration

[Docket Number FRA-2021-0076]

Petition for Waiver of Compliance

Under part 211 of title 49 Code of Federal Regulations (CFR), this document provides the public notice that on July 8, 2021, the Long Island Rail Road Company (LIRR) petitioned the Federal Railroad Administration (FRA) for a waiver of compliance from certain provisions of the Federal railroad safety regulations contained at 49 CFR parts 239 (Passenger Train Emergency Preparedness); 240 (Qualification and Certification of Locomotive Engineers); and 242 (Qualification and Certification of Conductors). FRA assigned the petition Docket Number FRA-2021-0076.

LIRR requests an extension of the relief that was granted to the American Public Transportation Association (APTA), on behalf of its member railroads, by letter dated September 18, 2020, from certain regulations pertaining to training.¹ Specifically, LIRR refers to pages 10-11 of the FRA decision letter in Docket Number FRA-2020-0060, regarding relief from recurrent/refresher training requirements for parts 239, 240, and 242.

¹ See https://www.regulations.gov/document/FRA-2020-0060-0005.

LIRR requests relief for approximately 30 “higher level Transportation Department employees.” LIRR states that it has had to limit classroom capacity for its training sessions because of the coronavirus disease 2019 (COVID-19) pandemic and states that it has a training backlog. Although LIRR expects to eliminate this backlog for some groups of employees by September 18, 2021, when the APTA relief expires, LIRR asserts that it does not have the necessary classroom or instructor availability to catch up on training its Transportation Department higher-level employees by that date. Instead, LIRR seeks an extension to permit recurrent/refresher training of such employees to occur by December 31, 2021.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by September 9, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-18243 Filed 8-24-21; 8:45 am]

BILLING CODE 4910-06-P